OFFICE OF PERSONNEL MANAGEMENT

Proposed Collection; Comment Request for Extension of a Currently Approved Collection: OPM Form 1300, Presidential Management Intern Program Application

AGENCY: Office of Personnel Management.

ACTION: Notice.

SUMMARY: In accordance with the Paperwork Reduction Act of 1995 (Public Law 104-13, May 22, 1995), this notice announces that the Office of Personnel Management (OPM) intends to submit a request to the Office of Management and Budget (OMB). The OPM is requesting OMB to approve an extension of a currently approved collection associated with the OPM Form 1300, Presidential Management Intern Program Application. Approval of the Presidential Management Intern Program (PMI) application is necessary to facilitate the timely nomination, selection and placement of Presidential Management Intern finalists in Federal agencies.

The OPM Form 1300 has been in place since 1996 and no additional collection of information has been added.

Comments are particularly invited on: whether this information is necessary for the proper performance of functions of OPM, and whether it will have practical utility; whether our estimate of the public burden of this collection of information is accurate, and based on valid assumptions and methodology; and ways in which we can minimize the burden of the collection of information on those who are to respond, through the use of appropriate technological collection techniques or other forms of information technology.

For copies of this proposal, contact Mary Beth Smith-Toomey at (202) 606-8358, FAX (202) 418-3251 or e-mail to mbtoomey@opm.gov. Please include your mailing address with your request.

DATES: Comments on this proposal should be received within sixty (60) calendar days from the date of this publication.

ADDRESSES: Send or deliver comments to: U.S. Office of Personnel Management, Employment Service, ATTN: Rob Timmins, 1900 E Street, NW., Room 1425, Washington, DC 20415-9820. E-mail: ratimmin@opm.gov.

Office of Personnel Management.
Kay Coles James,
Director.

[FR Doc. 02-15805 Filed 6-21-02; 8:45 am]

BILLING CODE 6325-38-P